DEPARTMENT OF AGRICULTURE

Office of the Secretary

[Docket ID: USDA-2021-0006]

Identifying Barriers in USDA Programs and Services; Advancing Racial Justice and Equity and Support for Underserved Communities at USDA

AGENCY: Office of the Secretary, U.S. Department of Agriculture (USDA).

ACTION: Request for information.

SUMMARY: The U.S. Department of Agriculture (USDA) is requesting input from the public on how it can advance racial justice and equity for underserved communities as part of its implementation of Executive Order 13985, Advancing Racial Equity and Support for Underserved Communities Through the Federal Government. USDA is requesting input to identify barriers that people of color and underserved communities and individuals may face in obtaining information from USDA. This includes accessing, enrolling, and participating in USDA programs and services, and engaging with USDA staff. USDA seeks to identify opportunities in current USDA policies, regulations, and guidance to address systemic inequities. USDA requests input on how to best engage external stakeholders and community members representing marginalized, vulnerable, or underserved communities in order to increase participation in USDA programs, services, committees and decision-making processes. In the months ahead, USDA will establish a Racial Equity Commission. The Racial Equity Commission will focus specifically on addressing systemic impediments to equity in USDA programs. USDA is asking for comments on any and all interactions with USDA programs. All comments will be aggregated, summarized, and shared with USDA Leadership and the Racial Equity Commission. The Racial Equity Commission may choose to seek additional input to meet its goals and objectives. USDA will continue to reach out to stakeholders and community members for the purposes of Executive Order 13985 and to fulfill its mission.

DATES: We will consider comments received by July 15, 2021.

ADDRESSES: We invite you to submit comments on this notice. You may submit comments, identified by Docket ID: FSA-2021-0006, by any of the following methods:

• Federal eRulemaking Portal: Go to http://www.regulations.gov. Follow the online instructions for submitting comments. All public comments received are subject to the Freedom of Information Act and will be posted in their entirety at https://www.regulations.gov, including any personal or business confidential information provided. Do not include any information you would not like to be made publicly available.

Written responses should not exceed 20 pages, inclusive of a 1-page cover page as described below. Attachments or linked resources or documents are not included in the 20-page limit. Please respond concisely, in plain language, and in narrative format. You may respond to some or all of the questions listed in this document. Please ensure it is clear which question you are responding to. You may also include links to online material or interactive presentations but please ensure all links are publicly available. Each response should include:

• The name of the individual(s) and organization responding;

• The Area section(s) (1, 2, 3, 4, or 5) that your submission and materials support;

• A brief description of the responding individual(s) or organization's mission or areas of expertise, including any public-private partnerships with Federal, State, tribal, territorial, or local governments within the past 3 years that are relevant to this document; and

• A contact for questions or other follow-up on your response.

By responding to this document, each participant (individual, team, or legal entity) warrants that they are the sole author or owner of, or has the right to use, any copyrightable works that are included in the submission, that the works are wholly original (or is an improved version of an existing work that the participant has sufficient rights to use and improve), and that the submission does not infringe any copyright or any other rights of any third party of which the participant is aware.

Comments previously submitted during the Tribal Consultation on the Racial Equity Executive Order do not need to be resubmitted; your comments will be included in this record.

Participants will not be required to transfer their intellectual property rights to USDA, but participants must grant to the Federal government a nonexclusive license to apply, share, and use the materials that are included in the submission. To participate, each participant must warrant that there are no legal obstacles to providing the above-referenced nonexclusive licenses of participant rights to the Federal government.

Interested parties who respond to this document may be contacted for a follow-up strategic agency assessment dialogue, discussion, event, crowdsource campaign, or competition.

FOR FURTHER INFORMATION CONTACT: Issues regarding submission or questions can be sent to Liz Archuleta—phone number: 202-720-7095; or email: EquityRFI@usda.gov.

SUPPLEMENTARY INFORMATION:

Background

Executive Order 13985, Advancing Racial Equity and Support for Underserved Communities Through the Federal Government, states:

Equal opportunity is the bedrock of American democracy, and our diversity is one of our country's greatest strengths. But for too many, the American Dream remains out of reach. Entrenched disparities in our laws and public policies, and in our public and private institutions, have often denied that equal opportunity to individuals and communities. Our country faces converging economic, health, and climate crises that have exposed and exacerbated inequities, while a historic movement for justice has highlighted the unbearable human costs of systemic racism. Our Nation deserves an ambitious whole-of-government equity agenda that matches the scale of the opportunities and challenges that we face.

It is therefore the policy of my Administration that the Federal Government should pursue a comprehensive approach to advancing equity for all, including people of color and others who have been historically underserved, marginalized, and adversely affected by persistent poverty and inequality. Affirmatively advancing equity, civil rights, racial justice, and equal opportunity is the responsibility of the whole of our Government. Because advancing equity requires a systematic approach to embedding fairness in decision-making processes, executive departments and agencies (agencies) must recognize and work to redress inequities in their policies and programs that serve as barriers to equal opportunity.

By advancing equity across the Federal Government, we can create opportunities for the improvement of communities that have been historically underserved, which benefits everyone. For example, an analysis shows that closing racial gaps in wages, housing credit, lending opportunities, and access to higher education would amount to an additional $5 trillion in gross domestic product in the American economy over the next 5 years. The Federal government's goal in advancing equity is to provide everyone with the opportunity to reach their full potential. Consistent with these aims, each agency must assess whether, and to what extent, its programs and policies perpetuate systemic barriers to opportunities and benefits for people of color and other underserved groups. Such assessments will better equip agencies to develop policies and programs that deliver resources and benefits equitably to all.

Definitions

The term “equity” means the consistent and systematic fair, just, and impartial treatment of all individuals, including individuals who belong to underserved communities that have been denied such treatment, such as Black, Latino, and Indigenous and Native American persons, Asian Americans and Pacific Islanders and other persons of color; members of religious minorities; lesbian, gay, bisexual, transgender, and queer (LGBTQ+) persons; persons with disabilities; persons who live in rural areas; and persons otherwise adversely affected by persistent poverty or inequality.

The term “underserved communities” means populations sharing a particular characteristic, as well as geographic communities, that have been systematically denied a full opportunity to participate in aspects of economic, social, and civic life, as exemplified by the list in the preceding definition of “equity.”

Required Assessment and Plan

Within 200 days of the date of Executive Order 13985 (by August 8, 2021), agencies must submit to the Assistant to the President for Domestic Policy an assessment of the state of equity for underserved communities and individuals, including on the following points, for example:

• Barriers that underserved communities and individuals may face to enrollment in and access to benefits and services in Federal programs;

• Barriers that underserved communities and individuals may face in participation in agency procurement and contracting opportunities;

• Barriers that underserved communities and individuals may face in participation in agency grant programs and other forms of financial assistance;

• Opportunities in current agency policies, regulations, and guidance to address affirmatively and equitably the underlying causes of systemic inequities in society;

• Opportunities in agency community engagement processes to engage with and empower marginalized, vulnerable, or underserved communities more directly to advance equitable policymaking; and

• The operational status and level of institutional resources available to agency offices or divisions responsible for advancing civil rights or required to serve underrepresented or disadvantaged communities.

Within one year of the date of Executive Order 13985 (by January 19, 2022), the head of each agency will develop a plan for addressing any barriers to full and equal participation in programs and procurement opportunities identified in its assessment. Such a plan could include establishing ongoing routines to assess and rectify gaps in full and equal participation in programs and procurement opportunities.

Key Principles

Advancing equity must be a core part of management and policy making processes. Achieving equity must go beyond delivering special projects or programs that focus on underserved communities. Equity must be a central component of the decision-making framework that all agency functions are routed through.

Successful equity work yields tangible changes that positively impact the lives of people in the United States. Equity is not just a set of values; it must also be a set of outcomes.

Equity benefits everyone. If we close the gaps in income, wealth, and financial security for families across the country, our economy will grow. It's up to all of us as leaders to carry this message, and to demonstrate that advancing equity is not a zero-sum game that benefits some communities at the expense of others.

Customer Experience Questions

USDA is requesting customer experience input on the following questions where applicable:

1. Have you applied for or accessed USDA programs and services in the past? If so, please describe your experience.

2. If you have not applied for or accessed USDA programs and services in the past, why not? What would have made it easier for you to apply or access USDA programs and services?

3. How can USDA, its cooperators, grantees, and partners, better share information with underserved stakeholders about our programs and services? What are the best ways to notify and engage underserved stakeholders about new programs and services or changes to existing services?

4. Describe your experience(s) interacting with USDA staff when trying to access USDA programs and services. How were they helpful? Are local USDA offices staffed sufficiently and do they provide good customer service? What are areas for improvement?

5. Are USDA agency websites helpful in providing useful information on programs and services, explaining how specific programs and services work, and explaining how applications for participation are considered? What are areas for improvement?

6. What are the barriers to applying for loan and grant programs? How can USDA make loan and grant processes easier to understand and more accessible to underserved groups?

7. Have you attended stakeholder meetings and informational sessions in the past? Describe when and how helpful and useful the information was including follow-up by USDA.

General Questions

USDA is also requesting input on the following general questions where applicable:

1. Have you experienced injustice, inequity or unfairness in one or more USDA programs? If so, which ones? Please explain the situation(s).

2. Have you had difficulty accessing one or more USDA programs? If so, which ones? Please explain the difficulty.

3. Did you experience problems with required USDA paperwork, the USDA internet sites, the attitudes of USDA workers, or the locations of USDA offices?

4. Are there USDA policies, practices, or programs that perpetuate systemic barriers to opportunities and benefits for people of color or other underserved groups? How can those programs be modified, expanded, or made less complicated or streamlined, to deliver resources and benefits more equitably?

5. How can USDA establish and maintain connections to a wider and more diverse set of stakeholders representing underserved communities?

6. Please describe USDA programs or interactions that have worked well for underserved communities. What successful approaches to advancing justice and equity have been undertaken by USDA that you recommend be used as a model for other programs or areas?

7. Does USDA currently collect information, use forms, or require documentation that impede access to USDA programs or are not effective to achieve program objectives? If so, what are they and how can USDA revise them to reduce confusion or frustration, and increase equity in access to USDA programs?

8. Is there information you believe USDA currently collects that it does not need to achieve statutory or regulatory objectives?

9. Are there data-sharing activities in which USDA agencies should engage, so that repetitive collections of the same data do not occur from one USDA component to the next?

10. How can USDA use technology to improve customer service? Do you have suggestions on how technology or online services can help streamline and reduce regulatory or policy requirements? What are those technological programs or processes and how can USDA use them to achieve equity for all?

11. Are there sources of external data and metrics that USDA can use to evaluate the effects on underserved communities of USDA policies or regulations? If so, please identify or describe them.

12. What suggestions do you have for how USDA can effectively assess and measure its outreach and inclusion of underserved groups and individuals?

13. How can USDA remove or reduce barriers that underserved communities and individuals face when they participate or attempt to participate in agency procurement and contracting opportunities?

14. Have you made recommendations for improvement in the past to USDA? If so, please list or attach those recommendations.

Civil Rights Compliant

Information submitted through this document will not be processed as a civil rights complaint and will not be considered a complaint for determining whether a complaint was timely submitted.

To file a discrimination complaint on interactions with USDA, you can complete the form: https://www.usda.gov/sites/default/files/documents/Complain_combined_6_8_12_508.pdf. You may submit the discrimination complaint to USDA by any of the following methods:

Mail: U.S. Department of Agriculture, Director, Center for Civil Rights Enforcement, 1400 Independence Avenue SW, Washington, DC 20250-9410.

Fax: (202) 690-7442; or

Email: program.intake@usda.gov.

If you need any assistance completing the form, call the following phone numbers:

• (202) 260-1026 (Local),

• (866) 632-9992 (Toll-free Customer Service),

• (800) 877-8339 (Local or Federal relay), or

• (866) 377-8642 (Relay voice users).

USDA Non-Discrimination Policy

In accordance with Federal civil rights law and U.S. Department of Agriculture (USDA) civil rights regulations and policies, USDA, its Agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Persons with disabilities who require alternative means of communication for program information (for example, braille, large print, audiotape, American Sign Language, etc.) should contact the responsible agency or USDA TARGET Center at (202) 720-2600 or 844-433-2774 (toll-free nationwide). Additionally, program information may be made available in languages other than English.

To file a program discrimination complaint, complete the USDA Program Discrimination Complaint Form, AD-3027, found online at https://www.usda.gov/oascr/how-to-file-a-program-discrimination-complaint and at any USDA office or write a letter addressed to USDA and provide in the letter all the information requested in the form. To request a copy of the complaint form, call (866) 632-9992. Submit your completed form or letter to USDA by mail to: U.S. Department of Agriculture, Office of the Assistant Secretary for Civil Rights, 1400 Independence Avenue SW, Washington, DC 20250-9410 or email: OAC@usda.gov.

USDA is an equal opportunity provider, employer, and lender.

Elizabeth C. Archuleta,
Director, Office of Intergovernmental & External Affairs, U.S. Department of Agriculture.

[FR Doc. 2021-12612 Filed 6-15-21; 8:45 am]

BILLING CODE 3410-90-P